DEPARTMENT OF THE INTERIOR

National Park Service

Revised Draft Environmental Impact Statement and General Management Plan, Death Valley National Park, Inyo and San Bernardino Counties, California, Nye and Esmeralda Counties, Nevada; Notice of Availability

SUMMARY: Pursuant to section 102(2)(C) of the National Environmental Policy Act of 1969 (Pub. L. 91-190, as amended), the National Park Service, Department of the Interior, has prepared a Revised Draft Environmental Impact Statement (REIS) identifying and evaluating potential impacts of a proposed General Management Plan (GMP) for Death Valley National Park. This document provides updated and revised information that was prepared largely as a result of public comments on the original Draft EIS/GMP that was released in September 1998. Death Valley is a unit of the National Park System, created by Congress on October 31, 1994, in the California Desert Protection Act. The REIS/GMP also includes a draft Land Protection Plan (LPP) that addresses management options for non-federal lands that exist inside the park boundary. The LPP and REIS were prepared as a component of the Northern and Eastern Mojave Planning Effort (NEMO), a coordinated interagency project involving the National Park Service (NPS), Bureau of Land Management and U.S. Fish and Wildlife Service. The NPS anticipates that this document could proceed separately from other components of this coordinated planning effort, and separate Records of Decision will be prepared accordingly. The REIS identifies and evaluates the environmental consequences of a proposed action and two alternatives. No significant adverse environmental impacts are anticipated. When approved the GMP will serve as the overall management strategy for the next 10-15 years, under which more detailed activity or implementation plans are prepared as appropriate.

Proposal: This REIS/GMP presents the proposed management approach and two alternatives for the management of the park. The proposed action (Alternative 1) seeks to extend the existing management strategies that are in place for the previous national monument, and to apply the NPS mission and policies to the management of the resources within the new lands added to Death Valley in 1994 by the California Desert Protection Act. It also strives to incorporate the existing Congressional designation of 95% of the park as Wilderness into the management approach. This alternative addresses the removal of feral burros and horses from the park in order to achieve the NPS mission of managing the unit for native desert species. It also recognizes the need to work cooperatively with the Bureau of Land Management on adjacent land, where their mandate from Congress is to maintain viable herds of wild horses and burros. This alternative attempts to balance the preservation of resources mission with specific mandates from Congress. In Death Valley, the California Desert Protection Act provides for the continuation of grazing on the new lands. This alternative addresses grazing as a component of the management. This plan identifies a number of activity level plans needed to address site specific issues, such as the Saline Valley Warm Springs management and a backcountry/wilderness management plan. This alternative seeks funding for purchase of private property from willing sellers, or/and mineral interests where proposed uses conflict with the primary mission of preserving resources and providing for visitor enjoyment.

Alternatives: In addition to the proposal, this conservation planning and environmental impact analysis process also addressed the alternative of continuing existing management (no action), and an optional management approach. The existing management alternative (Alternative 2) describes the continuation of current management strategies. It is also commonly referred to as the status quo alternative. Under this alternative, existing visitor and administrative support services and facilities would be maintained in their current locations. There would be no change in road maintenance, although some roads might be improved if funding became available. No changes in recreation use would occur. Land acquisition would focus on obtaining funds to acquire private property and mineral interests from willing sellers only where proposed uses conflict with the park mission.

The optional approach (Alternative 3) provides for closure of the airstrips at Saline Valley Warm Springs, designating campsites at the Warm Springs, and specifies acquisition of private land or mineral interests only in sensitive habitats and the phase out of the concession operation at Stovepipe Wells.

Comments: Printed or CD-ROM copies of the REIS are available for public review at park headquarters, as well as at many public libraries and federal offices in southern California and southern Nevada. In addition, the document is posted on the internet at www.nps.gov/deva. Inquiries and requests for copies may also be directed to: Superintendent, Death Valley National Park, Furnace Creek, California 92328. The telephone number for the park is (760) 786-2331.

Interested individuals, organizations, Tribes, and agencies wishing to express any new concerns about management issues and future land management direction are encouraged to address these to the Superintendent, Death Valley National Park. All written comments must be postmarked not later than December 8, 2000, and should be submitted to the address noted above.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Public Meetings: The NPS will host a series of open houses to provide interested individuals and organization representatives an opportunity to express concerns, ask questions, view large scale maps and engage in dialog about the range or content of alternatives. This dialog is intended to provide additional guidance to the NPS in preparing a final EIS and plan amending the GMP and LPP. Written comments will also be accepted at these workshops. The public is invited to attend at any time during the open house posted hours. The workshops are scheduled as follows:

Friday, October 27th | Barstow, CA | 2:00-6:00 p.m.
Monday, October 30th | Pasadena, CA | 6:00-9:00 p.m.
Tuesday, October 31st | San Bernardino, CA | 2:00-6:00 p.m.
Wednesday, November 1st | Needles, CA | 2:00-6:00 p.m.
Thursday, November 2nd | Las Vegas, NV | 2:00-6:00 p.m.
Friday, November 3rd | Baker, CA | 2:00-6:00 p.m.
Monday, November 13th | Amargosa, CA | 2:00-6:00 p.m.
Tuesday, November 14th | Furnace Creek, CA | 6:00-9:00 p.m.
Wednesday, November 15th | Bishop, CA | 6:00-9:00 p.m.
Thursday, November 16th | Lone Pine, CA | 6:00-9:00 p.m.
Friday, November 17th | Ridgecrest, CA | 6:00-9:00 p.m.

Specific locations and other details will be available at the internet site identified above or by calling the park at (760) 786-2331.

Decision: Upon conclusion of the review period for the REIS/GMP, all written comments received will be duly considered in preparing a final plan. Currently the final EIS and GMP are anticipated to be completed during spring 2001. The availability of this final document will be similarly announced in the Federal Register. Subsequently a Record of Decision would be executed no sooner than 30 (thirty) days after release of the final EIS. The official responsible for approval of the GMP is the Regional Director, Pacific West Region; the official responsible for implementation of the approved GMP is the Superintendent, Death Valley National Park.

Signed: August 28, 2000.
William C. Walters,
Deputy Regional Director, Pacific West Region.

[FR Doc. 00-22742 Filed 9-5-00; 8:45 am]

BILLING CODE 4310-70-P